OFFICE OF MANAGEMENT AND BUDGET

Final Report of the Small Business Paperwork Relief Task Force

AGENCY: Office of Management and Budget, Executive Office of the President.

ACTION: Notice.

SUMMARY: The Office of Management is publishing the Final Report of the Small Business Paperwork Relief Task Force on June 28, 2003. The Small Business Paperwork Relief Task Force recommends options regarding the feasibility of consolidating information collections, organizing a list of information collections, and creating interactive electronic systems. A Draft Report was released for public comment May 9, 2003 and the response to comments is included in Appendix 8 of the Final Report. The Final Report of the Small Business Paperwork Relief Task Force is posted on OMB's Web site, http://www.whitehouse.gov/omb/inforeg/sbpr2003.pdf, and on the Small Business Administration's Web site for business laws, http://www.businesslaw.gov.

FOR FURTHER INFORMATION CONTACT: Shivani Desai, Office of E-Government and Information Technology, Office of Management and Budget, E-mail: shivani_desai@omb.eop.gov, Telephone: (202) 395-3092.

SUPPLEMENTARY INFORMATION: Congress directed the Director of OMB to convene and have a representative chair a Task Force “to study the feasibility of streamlining requirements with respect to small business concerns regarding collection of information and strengthening dissemination of information” (44 U.S.C. 3520, Pub. L. 107-198). More specifically, this Small Business Paperwork Relief Task Force is charged with examining five ways to reduce the information collection burden placed by government on small business concerns. They are:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

The Small Business Paperwork Relief Task Force is required to submit a report of its findings on the first three issues no later than one year after enactment, or June 28, 2003. A second report on the final two issues is required no later than two years after enactment, or June 28, 2004. Both reports must be submitted to the Director of OMB; the Small Business and Agriculture Regulatory Enforcement Ombudsman; and the Senate Committees on Governmental Affairs and Small Business and Entrepreneurship; and, the House Committees on Government Reform and Small Business.

The Director of OMB appointed Dr. John D. Graham, Administrator of the Office of Information and Regulatory Affairs, and Mr. Mark A. Forman, Administrator for the Office of E-Government and Information Technology, to co-chair the Small Business Paperwork Relief Task Force.

The Act specifies the following agencies to be represented on the SBPRA Task Force: Department of Labor (including the Bureau of Labor Statistics, and the Occupational Safety and Health Administration); Environmental Protection Agency; Department of Transportation; Office of Advocacy of the Small Business Administration; Internal Revenue Service; Department of Health and Human Services (including the Centers for Medicare and Medicaid Services); Department of Agriculture; Department of the Interior; the General Services Administration; and two other participants to be selected by the Director of OMB (who are the Department of Commerce and additional representatives from the Small Business Administration).

The Small Business Paperwork Relief Task Force solicited public comments on the Draft Report from May 9, 2003 to June 4, 2003. All comments received by OMB were considered and resulted in modifications to the final report. A summary of the public comments with responses of the Task Force is attached in Appendix 8 of the Final Report.

Donald R. Arbuckle,
Administrator, Office of Information and Regulatory Affairs.
Mark Forman,
Administrator, Office of E-Government and Information Technology.

[FR Doc. 03-16223 Filed 6-26-03; 8:45 am]

BILLING CODE 3110-01-P